DEPARTMENT OF THE INTERIOR

Bureau of Land Management

[WO-310-1310-PB-24 1A]

Extension of Approved Information Collections, OMB Control Numbers 1004-0145, 1004-0184, and 1004-0185

AGENCY: Bureau of Land Management, Interior.

ACTION: Notice and request for comments.

SUMMARY: In accordance with the Paperwork Reduction Act of 1995, the Bureau of Land Management (BLM) is requesting the Office of Management and Budget (OMB) to extend existing approvals to collect certain information from lessees, operators, record title holders, operating rights owners, and the general public on oil and gas and operations on Federal lands.

DATES: You must submit your comments to BLM at the address below on or before August 9, 2004. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0145, 1004-0184, and 1004-0185” and your name and return address in your Internet message.

You may deliver comments to the Bureau of Land Management, Administration Record, Room 401, 1620 L Street, NW., Washington, DC.

All comments will be available for public review at the L Street address during regular business hours (7:45 a.m. to 4:15 p.m.), Monday through Friday except Federal holidays.

FOR FURTHER INFORMATION CONTACT: You may contact Barbara Gamble, on (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires that we provide a 60-day notice in the Federal Register concerning a collection of information to solicit comments on:

(1) Whether the collection of information is necessary for the proper functioning of the agency, including whether the information will have practical utility;

(2) The accuracy of our estimates of the information collection burden, including the validity of the methodology and assumptions we use;

(3) Ways to enhance the quality, utility, and clarity of the information collected; and

(4) Ways to minimize the information collection burden on those who are required to respond, including the use of appropriate automated, electronic, mechanical, or other technological collection techniques or other forms of information technology.

The Mineral Leasing Act of 1920 (MLA), 30 U.S.C. et seq., gives the Secretary of the Interior responsibility for oil and gas leasing on approximately 570 million acres of public lands and national forests, and private lands where the mineral rights are reserved by the Federal Government. The Act of May 21, 1930 (30 U.S.C. 301-306), authorizes the leasing of oil and gas deposits under railroads and other rights-of-way. The Act of August 7, 1947, (Mineral Leasing Act of Acquired Lands), authorizes the Secretary to lease lands acquired by the United States (30 U.S.C. 341-359). The regulations under 43 CFR 3000 et al. authorize BLM to manage the oil and gas leasing and exploration activities. Without the information, BLM would not be able to analyze and approve oil and gas leasing and exploration activities.

BLM collects nonform information on oil and gas leasing and exploration activities when the lessee, record title holder, operating rights owner, or operator files any of the following information for BLM to adjudicate:

Information Collection 1004-0145
43 CFR | Information collection requirements | Number of responses | Reporting hours per respondent | Total hours
3100.3-1 | Notice of option holdings | 30 | 1 | 30
3100.3-3 | Option statement | 50 | 1 | 50
3101.2-4(a) | Excess acreage petition | 10 | 1 | 10
3101.2-6 | Showings statement | 10 | 1.5 | 15
3101.3-1 | Joinder evidence statement | 50 | 1 | 50
3103.4-1 | Waiver, suspension, reduction of rental, etc. | 20 | 2 | 40
3105.2 | Communitization or drilling agreement | 150 | 2 | 300
3105.3 | Operating, drilling, development contracts interest statement | 50 | 2 | 100
3105.4 | Joint operations; transportation of oil applications | 20 | 1 | 20
3105.5 | Subsurface storage application | 50 | 1 | 50
3106.8-1 | Heirs and devisee statement | 40 | 1 | 40
3106.8-2 | Change of name report | 60 | 1 | 60
3106.8-3 | Corporate merger notice | 100 | 2 | 200
3107.8 | Lease renewal application | 30 | 1 | 30
3108.1 | Relinquishments | 150 | .5 | 75
3108.2 | Reinstatement petition | 500 | .5 | 250
3109.1 | Leasing under rights-of-way application | 20 | 1 | 20
3120.1-1(e) | Lands available for leasing | 280 | 2.5 | 700
3120.1-3 | Protests and appeals | 90 | 1.5 | 135
3152.1 | Oil and gas exploration in Alaska application | 20 | 1 | 20
3152.6 | Data collection | 20 | 1 | 20
3152.7 | Completion of operations report | 20 | 1 | 20
Totals |  | 1,770 |  | 2,235

Information Collection 1004-0184
43 CFR | Information collection requirements | Total respondents | Reporting hours per respondent | Total burden hours
3121.12 | Competitive leasing nomination | 1,400 | .25 | 350
3124.32 | Lease consolidation | 10 | 2 | 20
3125.11 | Lease exchange | 25 | .25 | 6.25
3103.10(aa); 3153.37 | LACT meter proving report | 200 | 10 minutes | 33.33
3103.10(bb); 3154.33 | Gas charts; meter proving reports | 1,000 | .25 | 250
3103.10(dd) | Meter proving or calibration | 5,000 | 5 minutes | 416.67
3103 | Oral notification | 6,000 | 5 minutes | 500
3103.10(i) | &sbull Construction start-up |  |  |
3103.10(j) | Spud notice |  |  |
3103.10(m) | Running surface casing; BOP test |  |  |
3103.10(o) | Reserve pit closure |  |  |
3103.10(x) | Theft; production mishandling |  |  |
3103.10(z) | LACT meter proving |  |  |
| Leak detection system |  |  |
3103.10(ee) | Produced water pit completion |  |  |
3103.10(ff) | Spill; accident |  |  |
103.10(gg) | Well abandonment |  |  |
3103.10(ii) | Concentration of H2S |  |  |
3103.10(ll); 3145.43 |  |  |  |
3136.10 | Drainage agreement | 5 | 10 | 50
3137.13 | Unit Agreement | 60 | 40 | 2,400
3137.64 | Participating Area | 45 | 12 | 540
3145.18 | Notice of Staking | 1,500 | .25 | 375
3145.51(a)(3) | Remediation | 100 | 5 | 500
3151.10(c) | Off-lease measurement | 300 | 1 | 300
3151.10(d) | Commingling | 500 | .5 | 250
3164.15 | Civil penalties | 100 | .5 | 50
3107.53 | Bond decrease | 100 | 1 | 100
3107.56 and 3145.23 | Bond increase | 6,600 | .5 | 3,300
| Total | 22,945 |  | 9,441.25

BLM collects the information in the regulations that address oil and gas drainage and no form is required.

Information Collection 1004-0185
Type of drainage analysis | Number of analyses | Hours
Preliminary | 1,000 | 2,000
Detailed | 100 | 2,400
Additional | 10 | 200
Total | 1,110 | 4,600

Based upon our experience managing oil and gas activities, we estimate for the combined information collection 25,825 responses per year and annual information burden is 16,276 hours.

BLM will summarize all responses to this notice and include them in the request for OMB approval. All comments will become a matter of public record.

Dated: June 1, 2004.
Michael H. Schwartz,
Bureau of Land Management, Information Collection Clearance Officer.

[FR Doc. 04-12867 Filed 6-7-04; 8:45 am]

BILLING CODE 4310-84-M